DEPARTMENT OF ENERGY

Federal Energy Regulatory Commission

[Project No. 2232-925]

Duke Energy Carolinas, LLC; Notice of Application for Temporary Variance Accepted for Filing and Soliciting Comments, Motions To Intervene, and Protests

Take notice that the following hydroelectric application has been filed with the Commission and is available for public inspection.

a. Application Type: Temporary Variance from Flow Release.

b. Project No.: 2232-925.

c. Date Filed: April 7, 2025, and supplemented May 22, 2025.

d. Applicant: Duke Energy Carolinas, LLC.

e. Name of Project: Catawba-Wateree Hydroelectric Project—Lookout Shoals Development.

f. Location: The Lookout Shoals Development is located near the town of Claremont in Iredell and Catawba counties, North Carolina.

g. Filed Pursuant to: Federal Power Act, 16 U.S.C. 791(a)-825(r).

h. Applicant Contact: Brett Hartis, Senior Project Manager Water Strategy, Hydro Licensing, and Lake Services, 525 South Tryon Street, DEP-35B, Charlotte, NC 28202, (980) 875-5424.

i. FERC Contact: Robert Ballantine, (202) 502-6289, robert.ballantine@ferc.gov.

j. Cooperating agencies: With this notice, the Commission is inviting federal, state, local, and Tribal agencies with jurisdiction and/or special expertise with respect to environmental issues affected by the proposal, that wish to cooperate in the preparation of any environmental document, if applicable, to follow the instructions for filing such requests described in item k below. Cooperating agencies should note the Commission's policy that agencies that cooperate in the preparation of any environmental document cannot also intervene. See 94 FERC ¶ 61,076 (2001).

k. Deadline for filing comments, motions to intervene, and protests: September 3, 2025.

The Commission strongly encourages electronic filing. Please file comments, motions to intervene, and protests using the Commission's eFiling system at http://www.ferc.gov/docs-filing/efiling.asp. Commenters can submit brief comments up to 6,000 characters, without prior registration, using the eComment system at http://www.ferc.gov/doc-sfiling/ecomment.asp. You must include your name and contact information at the end of your comments. For assistance, please contact FERC Online Support at FERCOnlineSupport@ferc.gov, (866) 208-3676 (toll free), or (202) 502-8659 (TTY). In lieu of electronic filing, you may submit a paper copy. Submissions sent via the U.S. Postal Service must be addressed to: Debbie-Anne A. Reese, Secretary, Federal Energy Regulatory Commission, 888 First Street NE, Room 1A, Washington, DC 20426. Submissions sent via any other carrier must be addressed to: Debbie-Anne A. Reese, Secretary, Federal Energy Regulatory Commission, 12225 Wilkins Avenue, Rockville, MD 20852. The first page of any filing should include the docket number P-2232-925. Comments emailed to Commission staff are not considered part of the Commission record.

The Commission's Rules of Practice and Procedure require all intervenors filing documents with the Commission to serve a copy of that document on each person whose name appears on the official service list for the project. Further, if an intervenor files comments or documents with the Commission relating to the merits of an issue that may affect the responsibilities of a particular resource agency, they must also serve a copy of the document on that resource agency.

l. Description of Request: The applicant requests Commission approval for a temporary variance from the 80 cubic feet per second (cfs) minimum continuous flow release requirement at the Lookout Shoals Development from mid-September, 2025 through February 28, 2026. The licensee needs to perform maintenance on the junior unit headgate and replace the low pressure water system at the development. In order to perform these maintenance activities, the junior units must be taken out of service. The junior units are the means by which the required minimum continuous flow is released. During the maintenance project, the licensee proposes to provide flow from the dam by pulsing a larger unit for one hour on and two hours off (at a minimum) or, if water is available, to run a larger unit continuously (approximately 1,050 cfs). The licensee consulted with the North Carolina Wildlife Resources Commission, North Carolina Department of Environmental Quality—Division of Water Resources, and U.S. Fish and Wildlife Service regarding the variance and the proposed mitigative flow release method. During this consultation, the licensee and the resource agencies agreed to the pulse flow strategy to mitigate the deviations from flow release license requirements, confirming that no negative effects to the environment are expected.

m. Locations of the Application: This filing may be viewed on the Commission's website at http://www.ferc.gov using the “eLibrary” link. Enter the docket number excluding the last three digits in the docket number field to access the document. You may also register online at http://www.ferc.gov/docs-filing/esubscription.asp to be notified via email of new filings and issuances related to this or other pending projects. For assistance, call 1-866-208-3676 or email FERCOnlineSupport@ferc.gov, for TTY, call (202) 502-8659. Agencies may obtain copies of the application directly from the applicant.

n. Individuals desiring to be included on the Commission's mailing list should so indicate by writing to the Secretary of the Commission.

o. Comments, Motions to Intervene, or Protests: Anyone may submit comments, a protest, or a motion to intervene in accordance with the requirements of Rules of Practice and Procedure, 18 CFR 385.210, .211, .214, respectively. In determining the appropriate action to take, the Commission will consider all protests or other comments filed, but only those who file a motion to intervene in accordance with the Commission's Rules may become a party to the proceeding. Any comments, protests, or motions to intervene must be received on or before the specified comment date for the particular application.

p. Filing and Service of Responsive Documents: Any filing must (1) bear in all capital letters the title “COMMENTS”, “PROTEST”, or “MOTION TO INTERVENE” as applicable; (2) set forth in the heading the name of the applicant and the project number of the application to which the filing responds; (3) furnish the name, address, and telephone number of the person commenting, protesting or intervening; and (4) otherwise comply with the requirements of 18 CFR 385.2001 through 385.2005. All comments, motions to intervene, or protests must set forth their evidentiary basis. Any filing made by an intervenor must be accompanied by proof of service on all persons listed in the service list prepared by the Commission in this proceeding, in accordance with 18 CFR 385.2010.

q. The Commission's Office of Public Participation (OPP) supports meaningful public engagement and participation in Commission proceedings. OPP can help members of the public, including landowners, community organizations, Tribal members and others, access publicly available information and navigate Commission processes. For public inquiries and assistance with making filings such as interventions, comments, or requests for rehearing, the public is encouraged to contact OPP at (202) 502-6595 or OPP@ferc.gov.

Dated: August 4, 2025.
Debbie-Anne A. Reese,
Secretary.

[FR Doc. 2025-15007 Filed 8-6-25; 8:45 am]

BILLING CODE 6717-01-P